ENVIRONMENTAL PROTECTION AGENCY

40 CFR Part 271

[FRL-7399-9]

Massachusetts: Extension of Interim Authorization of State Hazardous Waste Management Program Revision

AGENCY: Environmental Protection Agency (EPA).

ACTION: Proposed rule.

SUMMARY: The EPA is proposing to extend the expiration date from January 1, 2003, to January 1, 2006, for the interim authorization under the Resource Conservation and Recovery Act, of the Massachusetts program for regulating Cathode Ray Tubes (“CRTs”). Massachusetts was granted interim authorization to assume the responsibility under the Toxicity Characteristics Rule (“TC Rule”) for regulating CRTs on November 15, 2000. That previously granted interim authorization is due to expire on January 1, 2003, and needs be extended. Elsewhere in today's Federal Register, EPA is publishing a rule to authorize the extension without a prior proposal because we believe this action is not controversial and do not expect comments that oppose it. Unless we get written comments which oppose this extension during the comment period, the decision to extend the interim authorization will take effect. If we get comments that oppose this action, we will publish a document in the Federal Register withdrawing this rule before it takes effect and this separate document in this proposed rules section of this Federal Register will serve as the proposal to authorize the changes.

DATES: Send your written comments by December 2, 2002.

ADDRESSES: Send any written comments to Robin Biscaia, EPA New England, One Congress Street, Suite 1100 (CHW), Boston, MA 02114-2023; telephone: (617) 918-1642. Documents related to EPA's previous decision to grant interim authorization (regarding regulation of CRTs) and the materials which EPA used in now considering the extension (the “Administrative Record”) are available for inspection and copying during normal business hours at the following locations: Massachusetts Department of Environmental Protection Library, One Winter Street—2nd Floor, Boston, MA 02108, business hours: 9 a.m. to 5 p.m., telephone: (617) 292-5802; or EPA New England Library, One Congress Street—11th Floor, Boston, MA 02114-2023, business hours: 10 a.m. to 3 p.m., Monday through Thursday, telephone: (617) 918-1990.

FOR FURTHER INFORMATION CONTACT: Robin Biscaia, Hazardous Waste Unit, Office of Ecosystems Protection, EPA New England, One Congress Street, Suite 1100 (CHW), Boston, MA 02114-2023, telephone: (617) 918-1642.

SUPPLEMENTARY INFORMATION: For additional information, please see the immediate final rule published in the “Rules and Regulations” section of this Federal Register.

Dated: October 17, 2002.
Robert W. Varney,
Regional Administrator, EPA New England.

[FR Doc. 02-27342 Filed 10-30-02; 8:45 am]

BILLING CODE 6560-50-P